DEPARTMENT OF DEFENSE

Department of the Army

Record of Decision for the Chemical and Biological Defense Program (CBDP) Final Programmatic Environmental Impact Statement (FPEIS)

Correction

In notice document 06-4859 beginning on page 30123 in the issue of Thursday, May 25, 2006, make the following corrections:

1. On page 30123, in the second column, the subject heading is corrected to read as set forth above.

2. On page 30124, in the first column, in the file line, “BILLING CODE 371-08-M” should read “BILLING CODE 3710-08-M”.

[FR Doc. C6-4859 Filed 6-5-06; 8:45 am]

BILLING CODE 1505-01-D